DEPARTMENT OF HOMELAND SECURITY

Coast Guard

[USCG-2005-21405]

Commercial Fishing Industry Vessel Safety Advisory Committee

AGENCY: Coast Guard, DHS.

ACTION: Notice of meeting.

SUMMARY: The Commercial Fishing Industry Vessel Safety Advisory Committee (CFIVSAC) will meet to discuss various issues relating to commercial vessel safety in the fishing industry. The meetings are open to the public.

DATES: CFIVSAC will meet on July 18 and 19, 2005, from 8 a.m. to 5 p.m. The meetings may close early if all business is finished. Requests to make oral presentations should reach the Coast Guard on or before July 11, 2005. Written material for distribution at the meeting should reach the Coast Guard on or before July 11, 2005. Requests to have a copy of your material distributed to each member of the committee should reach the Coast Guard on or before July 4, 2005.

ADDRESSES: CFIVSAC will meet on the third floor of the New Bedford Public Library, 613 Pleasant Street, New Bedford, Massachusetts 02740. The World Wide Web site can be found at: http://www.ci.new-bedford.ma.us/SERVICES/LIBRARY/library2.htm.

FOR FURTHER INFORMATION CONTACT: Lieutenant (JG) Roberto Trevino, by telephone at 202-267-2854, fax 202-267-0506, or e-mail: Rtrevino@comdt.uscg.mil.

SUPPLEMENTARY INFORMATION: Information about the CFIVSAC, up to date meeting information, and past meeting minutes are available at the following World Wide Web site: http://www.uscg.mil/hq/g-m/cfvs/CFIVSAC.htm.

CFIVSAC will meet to discuss various issues relating to commercial vessel safety in the fishing industry. The meetings are open to the public.

Notice of the meetings is given under the Federal Advisory Committee Act, 5 U.S.C. App. 2.

Agenda of Meeting

The agenda includes the following:

(1) Approval of last meeting's minutes.

(2) Brief from the Coast Guard on the Fishing Vessel GALAXY casualty report. The brief will cover lessons learned and recommendations.

(3) Updated status report from the Coast Guard on the commercial fishing vessel World Wide Web site and other communication issues.

(4) Vessel stability presentation update by the Society of Naval Architects and Marine Engineers (SNAME).

(5) Discussions and working group sessions by the subcommittees on current program strategies and future plans.

Procedural

The meetings are open to the public. Please note the meetings may close early if all business is finished. At the Chair's discretion, members of the public may make presentations during the meeting. If you would like to make an oral presentation at the meeting, please notify the Executive Director no later than July 11, 2005. Written material for distribution at the meeting should reach the Coast Guard no later than July 11, 2005. If you would like a copy of your material distributed to each member of the committee in advance of the meeting, please submit 25 copies to Lieutenant (JG) Roberto Trevino no later than July 4, 2005.

Information on Services for Individuals With Disabilities

For information on facilities or services for individuals with disabilities or to request special assistance at the meeting, contact Lieutenant (JG) Roberto Trevino as soon as possible.

Dated: June 9, 2005.
R. Petow,
Captain, U.S. Coast Guard, Acting Director of Standards Marine Safety, Security & Environmental Protection.

[FR Doc. 05-11848 Filed 6-15-05; 8:45 am]

BILLING CODE 4910-15-P